DEPARTMENT OF ENERGY

Federal Energy Regulatory Commission

Combined Notice of Filings #1

Take notice that the Commission received the following electric rate filings:

Docket Numbers: ER19-512-001.

Applicants: San Diego Gas & Electric Company.

Description: Tariff Amendment: 2019 SDGE TACBAA Rate Revision to be effective 1/1/2019.

Filed Date: 1/24/19.

Accession Number: 20190124-5050.

Comments Due: 5 p.m. ET 2/14/19.

Docket Numbers: ER19-858-000.

Applicants: Entergy Arkansas, LLC.

Description: Baseline eTariff Filing: Notice of Succession to be effective 1/24/2019.

Filed Date: 1/24/19.

Accession Number: 20190124-5000.

Comments Due: 5 p.m. ET 2/14/19.

Docket Numbers: ER19-859-000.

Applicants: GridLiance West LLC.

Description: § 205(d) Rate Filing: GLW 205 ADIT True-up Revision 1-23-19 to be effective 3/26/2019.

Filed Date: 1/24/19.

Accession Number: 20190124-5001.

Comments Due: 5 p.m. ET 2/14/19.

Docket Numbers: ER19-860-000.

Applicants: Entergy Arkansas, LLC.

Description: § 205(d) Rate Filing: EAL-SWPA Marketing Agreement to be effective 3/1/2019.

Filed Date: 1/24/19.

Accession Number: 20190124-5021.

Comments Due: 5 p.m. ET 2/14/19.

Docket Numbers: ER19-861-000.

Applicants: Southwest Power Pool, Inc.

Description: § 205(d) Rate Filing: 1276R18 KCPL NITSA NOA to be effective 1/1/2019.

Filed Date: 1/24/19.

Accession Number: 20190124-5031.

Comments Due: 5 p.m. ET 2/14/19.

Docket Numbers: ER19-862-000.

Applicants: Midcontinent Independent System Operator, Inc.

Description: § 205(d) Rate Filing: 2019-01-24_SA 3111 Bayou Bend Solar-ELL 1st Rev GIA (J581) to be effective 1/9/2019.

Filed Date: 1/24/19.

Accession Number: 20190124-5032.

Comments Due: 5 p.m. ET 2/14/19.

Docket Numbers: ER19-863-000.

Applicants: Duke Energy Carolinas, LLC.

Description: § 205(d) Rate Filing: DEC-SCE&G RS No. 294 Interconnection Agreement to be effective 4/1/2019.

Filed Date: 1/24/19.

Accession Number: 20190124-5036.

Comments Due: 5 p.m. ET 2/14/19.

Docket Numbers: ER19-864-000.

Applicants: Southwest Power Pool, Inc.

Description: § 205(d) Rate Filing: 1910R14 Southwestern Public Service Company NITSA NOA to be effective 1/1/2019.

Filed Date: 1/24/19.

Accession Number: 20190124-5037.

Comments Due: 5 p.m. ET 2/14/19.

Docket Numbers: ER19-865-000.

Applicants: Duke Energy Progress, LLC.

Description: § 205(d) Rate Filing: DEP-City of Camden PPA Amendment (RS No. 197) (State ADIT) to be effective 11/1/2018.

Filed Date: 1/24/19.

Accession Number: 20190124-5077.

Comments Due: 5 p.m. ET 2/14/19.

Docket Numbers: ER19-866-000.

Applicants: Pacific Gas and Electric Company.

Description: § 205(d) Rate Filing: E&P Agreement for Sand Hill C Wind Farm to be effective 1/25/2019.

Filed Date: 1/24/19.

Accession Number: 20190124-5105.

Comments Due: 5 p.m. ET 2/14/19.

Docket Numbers: ER19-867-000.

Applicants: South Carolina Electric & Gas Company.

Description: § 205(d) Rate Filing: IA between DEC and SCEG to be effective 4/1/2019.

Filed Date: 1/24/19.

Accession Number: 20190124-5109.

Comments Due: 5 p.m. ET 2/14/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: January 24, 2019.
Nathaniel J. Davis, Sr.,
Deputy Secretary.

[FR Doc. 2019-00527 Filed 1-30-19; 8:45 am]

BILLING CODE 6717-01-P